DEPARTMENT OF TRANSPORTATION

Federal Aviation Administration

14 CFR Parts 65, 119, 121, 135, and 142

[Docket No. FAA-2008-0677; Notice No. 08-07]

RIN 2120-AJ00

Qualification, Service, and Use of Crewmembers and Aircraft Dispatchers

AGENCY: Federal Aviation Administration (FAA), DOT.

ACTION: Proposed rule; notice of public meeting.

SUMMARY: The FAA announces a public meeting on its proposal, published January 12, 2009, to amend the regulations for crewmember and aircraft dispatcher training programs in domestic, flag, and supplemental operations. The FAA has received requests from stakeholders for meetings during the comment period to clarify the proposal and respond to questions. In response to those requests, the FAA is holding a public meeting during the comment period. The purpose of the public meeting is to give an opportunity to those who may be most affected by the proposed rule to ask questions and seek information from the FAA regarding the intent of the proposal.

DATES: The public meeting will be held on April 7, 2009, from 9 a.m. EDT to 4 p.m. EDT. The FAA may adjourn the meeting early if all of the agenda items have been addressed. Comments on the proposed rule must be received on or before May 12, 2009.

ADDRESSES: The April 7, 2009, public meeting will be held at the National Transportation Safety Board (NTSB) Training Center, 45065 Riverside Parkway, Ashburn, Virginia 20147. You can find information regarding location, directions and nearby facilities on the NTSB Web site at: http://www.ntsb.gov/TC/.

FOR FURTHER INFORMATION CONTACT: For further information related to this meeting, contact Nancy Lauck Claussen, Air Transportation Division (AFS-200), Flight Standards Service, Federal Aviation Administration, 800 Independence Avenue, SW., Washington, DC 20591; telephone (202) 267-8166. For further information on the Notice of Proposed Rulemaking, contact Ed Cook for flight crewmember information, Nancy Lauck Claussen for flight attendant information, and David Maloy for aircraft dispatcher information at 202-267-8166. For legal questions, contact Anne Bechdolt, Office of Chief Counsel (AGC-200), Federal Aviation Administration, 800 Independence Avenue, SW., Washington, DC 20591; telephone 202-267-7230; e-mail: Anne.Bechdolt@faa.gov.

SUPPLEMENTARY INFORMATION:

Background

On January 12, 2009, the FAA published a Notice of Proposed Rulemaking (NPRM) entitled “Qualification, Service, and Use of Crewmembers and Aircraft Dispatchers” (74 FR 1280). The proposed regulations enhance traditional training programs by requiring the use of flight simulation training devices for flight crewmembers and includes additional training requirements in areas that are critical to safety. The proposal also reorganizes and revises the qualification and training requirements. The proposed changes are intended to contribute significantly to reducing aviation accidents. The comment period closes May 12, 2009.

Purpose of the Public Meeting

The purpose of the public meeting is to give an opportunity to those who may be most affected by the proposed rule to ask questions and seek information from the FAA regarding the intent of the proposal. This, in turn, will allow them to be more effective commenters. This meeting is not a substitute process for submitting comments to the docket. For all comments to the proposed rule to be considered, all commenters must submit their comments to the docket by May 12, 2009. You may send comments identified by Docket Number FAA-2008-0677 using any of the following methods:

• Federal eRulemaking Portal: Go to http://www.regulations.gov and follow the online instructions for sending your comments electronically.

• Mail: Send comments to the Docket Management Facility, U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

For more information on the rulemaking process, see the SUPPLEMENTARY INFORMATION section of this document.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

Public Meeting Procedures

A panel of representatives from the FAA will lead the meeting. An FAA representative will facilitate the meetings in accordance with the following agenda and procedures:

Agenda
Time | Topic
0900-0915 | Opening Remarks
0915-1015 | General Overview/Review of NPRM
| • Major Changes
| • All
| • Flight Crewmembers
| • Flight Attendants
| • Aircraft Dispatchers
1015-1030 | Break
1030-1045 | General Q&A
1045-1200 | Floor Questions
| • Flight Crewmembers
1200-1300 | Lunch
1300-1415 | Floor Questions
| • Flight Attendants
1415-1430 | Break
1430-1545 | Floor Questions
| • Aircraft Dispatchers
1545-1600 | Wrap-Up/Exit

(1) The meeting is designed to facilitate the public comment process by allowing commenters to ask questions and seek clarification regarding the proposed rule. The meeting will be informal and non-adversarial. No individual will be subject to cross-examination by any other participant. Any statement made during the meeting by a panel member should not be construed as an official position of the government.

(2) There will be no admission fees or other charges to attend or to participate in the public meeting. The meeting will be open to all persons, subject to availability of space in the meeting room. The FAA will make every effort to accommodate all persons wishing to attend.

(3) The meeting will be recorded and a record will be included in the public docket. Information on how to purchase a recording will be available at the meeting.

Issued in Washington, DC, on March 9, 2009.
Pamela Hamilton-Powell,
Director, Office of Rulemaking.

[FR Doc. E9-5362 Filed 3-11-09; 8:45 am]

BILLING CODE 4910-13-P